DEPARTMENT OF ENERGY

Federal Energy Regulatory Commission

[Project No. 14857-000]

Watterra Energy, LLC; Notice of Preliminary Permit Application Accepted for Filing and Soliciting Comments, Motions To Intervene, and Competing Applications

On September 11, 2017, Watterra Energy, LLC (Watterra Energy) filed a preliminary permit application pursuant to section 4(f) of the Federal Power Act proposing to study the feasibility of the proposed Saylorville Dam Hydroelectric Project No. 14857-000, to be located at the existing Saylorville Dam on the Des Moines River, near the City of Des Moines in Polk County, Iowa. Saylorville Dam is owned by the United States government and operated by the United States Army Corps of Engineers.

The sole purpose of a preliminary permit, if issued, is to grant the permit holder priority to file a license application during the permit term. A preliminary permit does not authorize the permit holder to perform any land-disturbing activities or otherwise enter upon lands or waters owned by others without the owner's express permission.

Watterra Energy's proposed project would consist of: (1) A new 20-foot-diameter steel penstock that would be inserted into an existing 22-foot-diameter by 640-foot-long concrete conduit; (2) a new 55-foot-wide by 70-foot-long by 30-foot-high concrete powerhouse; (3) three new 5.22-megawatt (MW) turbines, with a combined generating capacity of 15.66 MW; (4) a new 70-foot-long by 55-foot-wide substation; (5) a new 7,000-foot-long, 13.8-kilovolt transmission line; and (6) appurtenant facilities. The project would have an estimated annual generation of 58 gigawatt-hours.

Applicant Contact: Mr. Craig Dalton, 220 W. Main Street, Hamilton, MT 59840; (406) 384-0080.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14857-000.

More information about this project, including a copy of the application, can be viewed or printed on the eLibrary link of Commission's Web site at http://www.ferc.gov/docs-filing/elibrary.asp. Enter the docket number (P-14857) in the docket number field to access the document. For assistance, contact FERC Online Support.

Dated: September 27, 2017.
Kimberly D. Bose,
Secretary.

[FR Doc. 2017-21271 Filed 10-3-17; 8:45 am]

BILLING CODE 6717-01-P